NUCLEAR REGULATORY COMMISSION

Notice of Public Meeting to Solicit Stakeholder Input on the Use of Risk Information in the Nuclear Materials and Waste Regulatory Process: Case Study on the Paducah Gaseous Diffusion Plant Seismic Upgrades

AGENCY: Nuclear Regulatory Commission.

ACTION: Notice of meeting.

SUMMARY: The Nuclear Regulatory Commission's (NRC's) Office of Nuclear Materials Safety and Safeguards is developing criteria for determining when risk information should be used in the regulation of nuclear materials and waste. As part of this effort, the NRC staff is conducting case studies on a spectrum of activities in the nuclear materials and waste arenas, including gaseous diffusion plants (GDPs). The purpose of the case studies is (1) to illustrate what has been done and what could be done in the materials and waste arenas to alter the regulatory approach in a risk-informed manner and (2) to establish a framework for using a risk-informed approach in the materials and waste arenas by testing a set of draft screening criteria, and determining the feasibility of safety goals.

NRC staff is in the initial phase of its case study on GDPs. Specifically, this case study is focusing on NRC and licensee activities associated with seismic upgrades for the Paducah GDP. The purpose of this meeting is to: (1) communicate to stakeholders the status of this case study, and (2) to solicit recommendations and comments on how NRC should proceed with the case study, apply or revise the draft screening criteria, develop safety goals, and incorporate risk information into its regulatory program. The tentative agenda for the meeting is as follows:

1. Opening remarks.

2. Provide background information on the case study effort.

3. Present status of case study.

4. Receive comments, feedback, and recommendations.

5. Closing remarks.

The meeting is open to the public; all interested parties may attend and provide comments. Persons who wish to attend the meeting should contact Marissa Bailey no later than July 26, 2001.

DATES: The meeting will be held on July 31, 2001, from 1:30 p.m. to 4:30 p.m., in the U.S. Nuclear Regulatory Commission Auditorium, 11545 Rockville Pike, Rockville, MD 20852.

FOR FURTHER INFORMATION CONTACT: Marissa Bailey, Mail Stop T-8-A-23, U.S. Nuclear Regulatory Commission, Washington, DC 20555-0001. Telephone: (301) 415-7648; Internet: MGB@NRC.GOV.

SUPPLEMENTARY INFORMATION: The NRC staff's case study approach, the draft screening criteria, and the case study areas under consideration are described in the “Plan for Using Risk Information in the Materials and Waste Arenas: Case Studies” which has been published in the Federal Register (65 FR 66782, November 7, 2000). Copies of this plan are also available on the Internet at http://www.nrc.gov/NMSS/IMNS/riskassessment.html. Written requests for single copies of this plan may also be submitted to the U.S. Nuclear Regulatory Commission, Office of Nuclear Materials Safety and Safeguards, Risk Task Group, Mail Stop T-8-A-23, Washington, DC 20555-0001.

Dated at Rockville, MD, this 29th day of June, 2001.
For the Nuclear Regulatory Commission.
Lawrence E. Kokajko,
Section Chief, Risk Task Group, Office of Nuclear Material Safety and Safeguards.

[FR Doc. 01-16913 Filed 7-5-01; 8:45 am]

BILLING CODE 7590-01-P